DEPARTMENT OF TRANSPORTATION

Federal Aviation Administration

14 CFR Part 39

[Docket No. FAA-2005-21860; Directorate Identifier 2005-NM-032-AD; Amendment 39-14445; AD 2006-01-06]

RIN 2120-AA64

Airworthiness Directives; Airbus Model A330-200, A330-300, A340-200, and A340-300 Series Airplanes

AGENCY: Federal Aviation Administration (FAA), Department of Transportation (DOT).

ACTION: Final rule.

SUMMARY: The FAA is adopting a new airworthiness directive (AD) for certain Airbus Model A330-200, A330-300, A340-200, and A340-300 series airplanes. This AD requires operators to modify the hydraulic control block of the nose landing gear. This AD results from a report of an unexpected steering event (swerve) during the take-off roll of one affected airplane. We are issuing this AD to prevent loss of airplane steering while on the ground, which could result in the airplane going off the side of the runway.

DATES: This AD becomes effective February 10, 2006.

The Director of the Federal Register approved the incorporation by reference of certain publications listed in the AD as of February 10, 2006.

ADDRESSES: You may examine the AD docket on the Internet at http://dms.dot.gov or in person at the Docket Management Facility, U.S. Department of Transportation, 400 Seventh Street, SW., Nassif Building, room PL-401, Washington, DC.

Contact Airbus, 1 Rond Point Maurice Bellonte, 31707 Blagnac Cedex, France, for service information identified in this AD.

FOR FURTHER INFORMATION CONTACT: Tim Backman, Aerospace Engineer International Branch, ANM-116, FAA, Transport Airplane Directorate, 1601 Lind Avenue, SW., Renton, Washington 98055-4056; telephone (425) 227-2797; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Airbus Model A330-200, A330-300, A340-200, and A340-300 series airplanes. That NPRM was published in the Federal Register on July 19, 2005 (70 FR 41354). That NPRM proposed to require operators to modify the hydraulic control block of the nose landing gear.

Comments

We provided the public the opportunity to participate in the development of this AD. We have considered the comments received.

Request To Exclude Airplanes With Certain Modification From Applicability

The commenter requests that the applicability be revised to match the effectivity of French airworthiness directive F-2005-016, dated January 19, 2005. The French airworthiness directive excludes airplanes on which Airbus Modification 50650 has been embodied in production or Airbus Service Bulletin A330-32-3156 or A340-32-4194 has been embodied in service. The original issue of these service bulletins, both dated December 22, 2004, was referenced as the appropriate source of service information for accomplishing the actions proposed in the NPRM. The commenter states that this additional information in the applicability would be useful for compliance with the FAA AD, particularly at the delivery level, and would help to avoid requests for alternate methods of compliance (AMOCs) once the AD is issued.

We partially agree with the commenter. We agree to revise the applicability to exclude airplanes on which Airbus Modification 50650 has been embodied in production. Airplanes on which Modification 50650 has been embodied are not subject to the identified unsafe condition. We disagree with including a reference to the service bulletins in the applicability. Paragraph (f) of the NPRM proposed to require accomplishing the actions in those service bulletins in order to ensure that the actions are accomplished on all affected airplanes. In addition, paragraph (e) of the NPRM and the final rule states, “You are responsible for having the actions required by this AD performed within the compliance times specified, unless the actions have already been done.” If the service bulletins referenced in paragraph (f) are accomplished then, in accordance with paragraph (e), no further actions are necessary. Paragraph (e) accomplishes the purpose of the commenter's request regarding airplanes on which the service bulletins are embodied, without making an additional change to the applicability. Therefore, we have changed the applicability of the final rule to exclude airplanes on which Airbus Modification 50650 has been embodied in production, but we have not added a reference to the service bulletins in the applicability.

Request To Add Reference to Re-identified Parts

The commenter considers it useful to operators to add a new note at the end of paragraph (f) to state that “At the end of the modification: The hydraulic control block (HCB) part number (P/N) C24856000-9 will become P/N C24856000-11, and the HCB P/N C24856001-7 will become P/N C24856001-9.”

We agree with the commenter. The information about the part numbers used for re-identifying the parts after the modification would be useful to operators. We have not added a new note, but have included this information in the existing Note 1 of the final rule. Note 1 refers to Messier-Bugatti Service Bulletin C24856-32-064, dated January 26, 2005, which is an additional source of service information for doing the modification, and which also contains the references to the re-identified part numbers. We have also revised paragraph (g) of the final rule to remove the statement “unless it has been modified in accordance with paragraph (f) of this AD.” The modified parts have a new part number, as specified in the revised Note 1.

Request To Add Airplanes to Applicability

The commenter requests that we add Airbus Model A330-302 and -303 airplanes to the applicability. The commenter points out that French airworthiness directive F-2005-016, dated January 19, 2005, and Airbus Service Bulletin A330-32-3156, dated December 22, 2004, which was referenced as a source of service information in the NPRM, both include these airplanes. The commenter acknowledges that Airbus Model A330-302 and -303 airplanes have not yet been certified by the FAA, but states that the certification is expected in the near future. The commenter suggests that, since the certification is expected and these airplane models are included in the mandated service information, they be included in the applicability of the final rule.

We do not agree with the commenter. AD actions are restricted to airplanes that are type certificated for operation in the United States under the provisions of section 21.29 of the Federal Aviation Regulations (14 CFR 21.29) and the applicable bilateral airworthiness agreement. However, should these airplanes be type certificated, we may consider further AD action. We have not changed the final rule in this regard.

Clarification of AMOC Paragraph

We have revised this action to clarify the appropriate procedure for notifying the principal inspector before using any approved AMOC on any airplane to which the AMOC applies.

Conclusion

We have carefully reviewed the available data, including the comments received, and determined that air safety and the public interest require adopting the AD with the changes described previously. We have determined that these changes will neither increase the economic burden on any operator nor increase the scope of the AD.

Costs of Compliance

This AD affects about 22 Model A330-200 and A330-300 airplanes of U.S. registry. The actions take about 39 work hours per airplane, at an average labor rate of $65 per work hour. There is no charge for required parts. Based on these figures, the estimated cost of this AD for U.S. operators is $55,770, or $2,535 per airplane.

There are currently no Model A340-200 or Model A340-300 airplanes on the U.S. Register. Should one of these airplanes be imported and placed on the U.S. Register in the future, the actions would take about 39 work hours per airplane, at an average labor rate of $65 per work hour. Based on these figures, the estimated cost of this AD would be $2,535 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-01-06 Airbus: Amendment 39-14445. Docket No. FAA-2005-21860; Directorate Identifier 2005-NM-032-AD.

Effective Date

(a) This AD becomes effective February 10, 2006.

Affected ADs

(b) None.

Applicability

(c) This AD applies to Airbus Model A330-201, -202, -203, -223, -243, -301, -321, -322, -323, -341, -342, and -343 airplanes; and Model A340-211, -212, -213, -311, -312, and -313 airplanes; certificated in any category; except airplanes on which Airbus Modification 50650 has been embodied in production.

Unsafe Condition

(d) This AD results from a report of an unexpected steering event (swerve) during the take-off roll of one affected airplane. We are issuing this AD to prevent loss of airplane steering while on the ground, which could result in the airplane going off the side of the runway.

Compliance

(e) You are responsible for having the actions required by this AD performed within the compliance times specified, unless the actions have already been done.

Modification

(f) Within 30 months after the effective date of this AD: Modify the hydraulic control block (HCB) in accordance with the Accomplishment Instructions of the applicable service bulletin in paragraph (f)(1) or (f)(2) of this AD.

(1) For Model A330-200 and A330-300 series airplanes: Airbus Service Bulletin A330-32-3156, dated December 22, 2004.

(2) For Model A340-200 and A340-300 series airplanes: Airbus Service Bulletin A340-32-4194, dated December 22, 2004.

Note 1: The Airbus service bulletins refer to Messier-Bugatti Service Bulletin C24856-32-064, dated January 26, 2005, as an additional source of service information for doing the modification. At the end of the modification: The HCB part number (P/N) C24856000-9 will become P/N C24856000-11, and the HCB P/N C24856001-7 will become P/N C24856001-9.

Parts Installation

(g) After the effective date of this AD, no person may install on any airplane an HCB having P/N C24856000-9 or C24856001-7.

Alternative Methods of Compliance (AMOCs)

(h)(1) The Manager, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(i) French airworthiness directive F-2005-016, dated January 19, 2005, also addresses the subject of this AD.

Material Incorporated by Reference

(j) You must use Airbus Service Bulletin A330-32-3156, dated December 22, 2004; or Airbus Service Bulletin A340-32-4194, dated December 22, 2004; as applicable; to perform the actions that are required by this AD, unless the AD specifies otherwise. The Director of the Federal Register approved the incorporation by reference of these documents in accordance with 5 U.S.C. 552(a) and 1 CFR part 51. Contact Airbus, 1 Rond Point Maurice Bellonte, 31707 Blagnac Cedex, France, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on December 27, 2005.
Ali Bahrami,
Manager, Transport Airplane Directorate, Aircraft Certification Service.

[FR Doc. 06-62 Filed 1-5-06; 8:45 am]

BILLING CODE 4910-13-P